DEPARTMENT OF THE TREASURY

Customs Service

[T.D. 01-19]

Revised Schedule of Navigation Fees

AGENCY: Customs Service, Treasury.

ACTION: General notice.

SUMMARY: This document announces a revision to the schedule of navigation fees for specific services provided to vessels by Customs officers. The fees authorized to be collected represent reimbursement to the government for costs associated with providing specific services to private parties. The current fee schedule was last revised in 1985 and does not reflect current salary and benefit costs and other appropriate costs and, therefore, does not effectively reimburse Customs for the services it provides vessels. Accordingly, the navigation fees are being revised to recover the full costs of providing services to vessels.

EFFECTIVE DATE: March 14, 2001.

FOR FURTHER INFORMATION CONTACT: April Conti, Cost Management Staff, Office of Finance, U.S. Customs Service, 1300 Pennsylvania Avenue, NW., Washington, DC, 20029, Tel. (202) 927-2014.

SUPPLEMENTARY INFORMATION:

Background

Customs provides certain services for vessels on a reimbursable basis. The specific services provided are delineated at § 4.98 of the Customs Regulations (19 CFR 4.98). Section 214(b) of the Customs Procedural Reform and Simplification Act of 1978 (Pub. L. 95-410, 92 Stat. 888, 19 U.S.C. 58a) authorizes the Secretary of the Treasury to establish the schedule of fees, commonly referred to as “navigation fees”, that Customs can charge and collect for these services. The fees are to be consistent with 31 U.S.C. 9701, which provides that the costs of specific services for private interests shall be reimbursed to the Government. The fees are calculated in accordance with the provisions of § 24.17(d) of the Customs Regulations (19 CFR 24.17(d)). The authority to establish the schedule of navigation fees was delegated by the Secretary of the Treasury to the Commissioner of Customs by Treasury Department Order No. 165, Revised (T.D. 53654).

The current schedule of navigation fees was last revised by T.D. 85-70 to reflect Federal pay increases, administrative overhead charges, and Medicare expenses at that time. Customs has not revised the schedule of navigation fees since that time to effectively recover the costs associated with subsequent increases in the rate of compensation paid to Customs officers performing a given service and other appropriate costs. Customs Office of Finance has recently conducted a review of the fees prescribed at § 4.98 to determine if the current navigation fee schedule recovers the full costs of providing the services specified and found that it does not. Accordingly, it is necessary for Customs to revise the fee schedule as follows:

Fee No. and description of services | Current fee | Revised fee
1. Entry of vessel, including American from a foreign port or from another U.S. port when transporting unentered foreign merchandise:
(a) Less than 100 net tons | $9.00 | $19.00
(b) 100 net tons and over | 18.00 | 37.00
2. Clearance of vessel, including American to a foreign port or to another U.S. port when transporting unentered foreign merchandise:
(a) Less than 100 net tons | 9.00 | 19.00
(b) 100 net tons and over | 18.00 | 37.00
3. Issuing permit to foreign vessel to proceed from port to port, and receiving manifest | 18.00 | 37.00
4. Receiving manifest of foreign vessel on arrival from another port, and granting a permit to unlade | 18.00 | 37.00
5. Receiving post entry | 9.00 | 19.00
6. Certifying payment of tonnage tax for foreign vessels only | 4.50 | 9.00
7. Furnishing copy of official document, including certified outward foreign manifest, and others not elsewhere enumerated | 18.00 | 37.00

The fee schedule set forth in this document becomes effective 30 days after its publication in the Federal Register and will remain in effect until further revised.

Dated: February 7, 2001.
Charles W. Winwood,
Acting Commissioner of Customs.

[FR Doc. 01-3549 Filed 2-9-01; 8:45 am]

BILLING CODE 4820-02-P